DEPARTMENT OF AGRICULTURE

Forest Service

Trinity County Resource Advisory Committee

AGENCY: Forest Service, USDA.

ACTION: Notice of meeting.

SUMMARY: The Trinity County Resource Advisory Committee (RAC) will meet at the Trinity County Office of Education in Weaverville, California, January 31, 2005. The purpose of this meeting is to discuss committee direction as it pertains to title II of the Secure Rural Schools and Community Self-Determination Act of 2000.

DATES: January 31, 2005.

ADDRESSES: The meetings will be held at the Trinity County Office of Education, 201 Memorial Drive, Weaverville, California 96093.

FOR FURTHER INFORMATION CONTACT: Michael R. Odle, Assistant Public Affairs Officer and RAC Coordinator.

SUPPLEMENTARY INFORMATION: The meetings are open to the public. Public input sessions will be provided and individuals will have the opportunity to address the Trinity County Resource Advisory Committee.

Dated: January 5, 2005.
J. Sharon Heywood,
Forest Supervisor.

[FR Doc. 05-487 Filed 1-10-05; 8:45 am]

BILLING CODE 3410-11-M